DEPARTMENT OF COMMERCE

Foreign-Trade Zones Board

[Docket 7-2006]

Foreign-Trade Zone 116—Port Arthur, Texas, Expansion of Manufacturing Authority-Subzone 116C, The Premcor Refining Group Inc., Port Arthur, TX

An application has been submitted to the Foreign-Trade Zones Board (the Board) by the Foreign-Trade Zone of Southeast Texas, Inc., grantee of FTZ 116, requesting authority on behalf of The Premcor Refining Group Inc. (Premcor), to expand the scope of manufacturing activity conducted under zone procedures within Subzone 116C at the Premcor oil refinery complex in Port Arthur, Texas. The application was submitted pursuant to the provisions of the Foreign-Trade Zones Act, as amended (19 U.S.C. 81a-81u), and the regulations of the Board (15 CFR part 400). It was formally filed on February 21, 2006.

Subzone 116C (250,000 BPD capacity 800 employees) was approved by the Board in 1996 for the manufacture of fuel products and certain petrochemical feedstocks and refinery by-products (Board Order 848, 61 FR 54153-54154, 10/17/96, as amended by Board Order 1116, 65 FR 52696, 8/30/00).

The subzone consists of four sites (4,685 acres) in Port Arthur: Site 1—(3,581 acres) the main refinery complex is located at 1801 S. Gulfway Drive, 3 miles southwest of Port Arthur; Site 2—(775 acres) Lucas/Beaumont Terminal storage facility (1.7 mil. Barrels) located at 9405 West Port Arthur Road, 15 miles northwest of the refinery; Site 3—(243 acres) Fannet LPG storage terminal (3mil. Barrels) located at 16151 Craigen, near Fannett, some 25 miles west of the refinery; and Site 4: (86 acres) Port Arthur Products storage facility (1.8 mil barrels) located at 1825 H.O. Mills Road, 4 miles northwest of the refinery. The expansion request involves the addition of a crude unit and modifications and upgrades to other units within the refinery to increase the overall crude distillation capacity of the refinery to 450,000 BPD and allow for the processing of a greater variety of crudes. No additional feedstocks or products have been requested.

Zone procedures would exempt the increased production from customs duty payments on the foreign products used in its exports. On domestic sales, the company would be able to choose the customs duty rates for certain petrochemical feedstocks (duty-free) by admitting foreign crude oil in non-privileged foreign status. The application indicates that the savings from zone procedures help improve the refinery's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is May 1, 2006. Rebuttal comments in response to material submitted during the foregoing period may be submitted during the subsequent 15-day period (to May 16, 2006).

A copy of the application and accompanying exhibits will be available for public inspection at the Office of the Foreign-Trade Zones Board's Executive Secretary at the first address listed above, and at the U.S. Department of Commerce, Export Assistance Center, 15600 John F. Kennedy Blvd., Suite 530, Houston, TX 77032.

Dated: February 21, 2006.
Dennis Puccinelli,
Executive Secretary.

[FR Doc. E6-2984 Filed 3-1-06; 8:45 am]

BILLING CODE 3510-DS-S